DEPARTMENT OF HOMELAND SECURITY

Coast Guard

[Docket No.CGD08-07-041]

Houston/Galveston Navigation Safety Advisory Committee

AGENCY: Coast Guard, DHS.

ACTION: Notice of Meeting.

SUMMARY: The Houston/Galveston Navigation Safety Advisory Committee (HOGANSAC) will meet to elect a new committee chairperson, vice-chairperson and chairpersons for subcommittees. The meeting will not be a working meeting. This meeting will be open to the public.

DATES: The meeting will be held on Tuesday, November 27, 2007 from 9-10 a.m.

ADDRESSES: The meeting will be held at the Houston Pilots Association, 8150 South Loop East, Houston, Texas 77011-1747, (713) 645-9620. This notice is available on the Internet at http://www.regulations.gov.

FOR FURTHER INFORMATION CONTACT: Commander Hal R. Pitts, Executive Secretary of HOGANSAC, telephone (713) 671-5164, e-mail hal.r.pitts@uscg.mil, or Lieutenant Sean Hughes, Assistant to the Executive Secretary of HOGANSAC, telephone (713) 678-9001, e-mail sean.p.hughes@uscg.mil.

SUPPLEMENTARY INFORMATION: Notice of this meeting is given pursuant to the Federal Advisory Committee Act, 5 U.S.C. App. (Pub. L. 92-463).

Agenda of the Meeting:

Houston/Galveston Navigation Safety Advisory Committee (HOGANSAC). The tentative agenda includes the following:

(1) Opening remarks by Executive Director (CAPT Diehl) or Executive Director's representative.

(2) HOGANSAC membership election of chairperson and vice-chairperson.

(3) Membership election of seven (07) subcommittee chairpersons.

Information On Services For The Handicapped: For information on facilities or services for the handicapped or to request special assistance at the meetings, contact the Executive Secretary or Assistant to the Executive Secretary as soon as possible.

November 5, 2007.
J.R. Whitehead,
Rear Admiral, U.S. Coast Guard Commander, Eighth Coast Guard District.

[FR Doc. 07-5606 Filed 11-06-07; 2:13 pm]

BILLING CODE 4910-15-M